DEPARTMENT OF HOUSING AND URBAN DEVELOPMENT

Office of Federal Housing Enterprise Oversight

Privacy Act of 1974, As Amended; New System of Records

AGENCY: Office of Federal Housing Enterprise Oversight, HUD.

ACTION: Notice of New System of Records.

SUMMARY: In accordance with the Privacy Act of 1974, as amended, 5 U.S.C. 552a (Privacy Act), the Office of Federal Housing Enterprise Oversight (OFHEO) is issuing public notice of its intent to establish a new Privacy Act system of records. The new system is titled Reasonable Accommodation Information System.

The proposed system of records will consist of information used to evaluate and make decisions with respect to requests for reasonable accommodation made by OFHEO employees and applicants for employment, to implement such accommodations and for emergency response purposes, such as providing evacuation assistance. OFHEO seeks comments on the proposed new system of records described in this notice.

DATES: Written comments must be received before May 9, 2008. The proposed new system of records will become effective on May 19, 2008, unless OFHEO receives comments that would result in changes.

ADDRESSES: You may submit your comments on the proposed new Privacy Act system of records, identified by “Reasonable Accommodation Information System,” by any of the following methods:

• U.S. Mail, United Parcel Post, Federal Express, or Other Mail Service: The mailing address for comments is: Alfred M. Pollard, General Counsel, Attention: Comments/Reasonable Accommodation Information System of Records, Office of Federal Housing Enterprise Oversight, Fourth Floor, 1700 G Street, NW., Washington, DC 20552.

• Hand Delivery/Courier: The hand delivery address is: Alfred M. Pollard, General Counsel, Attention: Comments/Reasonable Accommodation Information System of Records, Office of Federal Housing Enterprise Oversight, Fourth Floor, 1700 G Street, NW., Washington, DC 20552. The package should be logged at the Guard Desk, First Floor, on business days between 9 a.m. and 5 p.m.

• E-mail: Comments may be submitted by e-mail to Alfred M. Pollard, General Counsel at: RegComments@OFHEO.gov. Please include “Reasonable Accommodation Information System of Records” in the subject line of the message. See SUPPLEMENTARY INFORMATION for additional information on submission and posting of comments.

FOR FURTHER INFORMATION CONTACT: Mark D. Laponsky, Deputy General Counsel, telephone (202) 414-3832 (not a toll-free number); Office of Federal Housing Enterprise Oversight, Fourth Floor, 1700 G Street, NW., Washington, DC 20552. The telephone number for the Deaf is (800) 877-8339.

SUPPLEMENTARY INFORMATION:

Instructions: OFHEO seeks public comments on the proposed new system. Comments should include the reference “Reasonable Accommodation Information System of Records” as well as your name and other contact information in the body of your comment. OFHEO further requests that comments submitted in hard copy also be accompanied by the electronic version in Microsoft® Word or in portable document format (PDF) on 3.5″ disk or CD-ROM.

Posting and Public Availability of Comments: All comments received will be posted without change to http://www.ofheo.gov, including any personal information provided. Copies of all comments received will be available for examination by the public on business days between the hours of 10 a.m. and 3 p.m., at the Office of Federal Housing Enterprise Oversight, Fourth Floor, 1700 G Street, NW., Washington, DC. To make an appointment to inspect comments, please call the Office of General Counsel at (202) 414-3775.

Introduction: This notice informs the public that OFHEO proposes to establish and maintain a new system of records. This notice satisfies the Privacy Act requirement that an agency publish a system of records notice in the Federal Register when there is an addition to the agency's system of records. The proposed new system of records is:

OFHEO-10—Reasonable Accommodation Information System

As required by 5 U.S.C. 552a(r) of the Privacy Act, and pursuant to paragraph 4c of Appendix I to OMB Circular No. A-130, “Federal Agency Responsibilities for Maintaining Records about Individuals,” (February 8, 1996), OFHEO has submitted a report describing the new system of records covered by this notice to the House Committee on Government Reform, the Senate Committee on Homeland Security and Governmental Affairs, and the Office of Management and Budget. The proposed new system of records described above is set forth in its entirety below.

Dated: April 2, 2008.
James B. Lockhart III,
Director.

OFHEO-10

SYSTEM NAME:

Reasonable Accommodation Information System.

SYSTEM LOCATION:

The Reasonable Accommodation Information System is located in the Office of Federal Housing Enterprise Oversight, 1700 G Street, NW., Fourth Floor, Washington, DC 20552, and any alternate work site utilized by employees of the Office of Federal Housing Enterprise Oversight (OFHEO) or individuals assisting such employees.

CATEGORIES OF INDIVIDUALS COVERED BY THE SYSTEM:

The Reasonable Accommodation Information System covers current and former OFHEO employees and applicants for employment who have requested reasonable accommodations under the Rehabilitation Act of 1973, and employees who have identified the need for assistance in the event of emergencies or evacuation procedures.

CATEGORIES OF RECORDS IN THE SYSTEM:

The Reasonable Accommodation Information System includes requests for reasonable accommodations or assistance in the event of emergencies or evacuation procedures; medical records; notes or records made or compiled during consideration of requests for reasonable accommodations; decisions on requests for reasonable accommodations; records made to implement or track decisions on requests for reasonable accommodations.

AUTHORITY FOR MAINTENANCE OF THE SYSTEM:

The Rehabilitation Act of 1973 (29 U.S.C. 791); 29 CFR Part 1630; Executive Orders 13163 and 13164; and, Equal Employment Opportunity Commission Policy Guidance on Executive Order 13164.

PURPOSES:

Information in this system will be used when considering, deciding and implementing requests for reasonable accommodation made by OFHEO employees and applicants for employment, and for emergency response purposes.

ROUTINE USES OF RECORDS MAINTAINED IN THE SYSTEM, INCLUDING CATEGORIES OF USERS AND THE PURPOSES OF SUCH USES:

In addition to the conditions of disclosure under 5 U.S.C. 552a(b) and in addition to the general routine uses identified in the Prefatory Statement of General Routine Uses, 63 FR 9007 (February 23, 1998), it shall be a routine use to disclose information contained in this system for the purposes and to the users identified below:

1. To medical personnel to meet a bona fide medical emergency.

2. To OFHEO employees and others, including persons, consultants, contractors, entities, vendors or suppliers, as necessary to make a decision on a request for accommodation or to implement the decision.

3. To first responders and others as necessary to provide emergency response or evacuation assistance to covered individuals.

4. To appropriate persons, consultants, contractors, entities or others in the event of a breach of data contained in the system, as necessary for the purposes of responding to and remedying such breach.

DISCLOSURE TO CONSUMER REPORTING AGENCIES:

Disclosures may be made from this system pursuant to 5 U.S.C. 552a(b)(12) to consumer reporting agencies as defined in the Fair Credit Reporting Act (15 U.S.C. 1681a(f)), and in accordance with 31 U.S.C. 3711(e).

POLICIES AND PRACTICES FOR STORING, RETRIEVING, ACCESSING, RETAINING, AND DISPOSING OF RECORDS IN THE SYSTEM:

STORAGE:

Records are stored in both electronic and paper format. Paper records are maintained in file folders. Computer files are maintained on magnetic tape, CD, or other machine readable format.

RETRIEVABILITY:

Records are retrievable by the name of employee or applicant for employment or some other personal identifier.

SAFEGUARDS:

Access is restricted to OFHEO employees who require the information in performing their official duties. Access to computerized records is limited, through use of access codes and entry logs, to those whose official duties require access. Paper records are maintained in locked cabinets.

RETENTION AND DISPOSAL:

Records are maintained and disposed of in accordance with the National Archives and

SYSTEM MANAGER AND ADDRESS:

EEO Director, Office of Federal Housing Enterprise Oversight, 1700 G Street, NW., Washington, DC 20552.

NOTIFICATION PROCEDURE:

Contact the Privacy Act Officer, Office of Federal Housing Enterprise Oversight, 1700 G Street, NW., Fourth Floor, Washington, DC 20552.

RECORD ACCESS PROCEDURE:

The OFHEO regulation for providing access to records appears at 12 CFR part 1702. If additional information or assistance is required, contact the Privacy Act Officer, Office of Federal Housing Enterprise Oversight, 1700 G Street, NW., Fourth Floor, Washington, DC 20552.

CONTESTING RECORD PROCEDURES:

The OFHEO regulation for contesting records procedures appears at 12 CFR part 1702. If additional information or assistance is required, contact the Privacy Act Appeals Officer, Office of Federal Housing Enterprise Oversight, 1700 G Street, NW., Fourth Floor, Washington, DC 20552.

RECORD SOURCE CATEGORIES:

The information contained in these records is provided directly by the individual who is the subject of the record and official OFHEO personnel or authorized representatives.

EXEMPTIONS CLAIMED FOR THE SYSTEM:

None.

[FR Doc. E8-7414 Filed 4-8-08; 8:45 am]

BILLING CODE 4220-01-P